DEPARTMENT OF COMMERCE

Foreign-Trade Zones Board

[B-59-2019]

Foreign-Trade Zone (FTZ) 43—Battle Creek, Michigan; Authorization of Production Activity; DENSO Manufacturing Michigan, Inc. (Automotive HVAC and Engine Cooling Products); Battle Creek, Michigan

On September 9, 2019, DENSO Manufacturing Michigan, Inc. submitted a notification of proposed production activity to the FTZ Board for its facility within FTZ 43 in Battle Creek, Michigan.

The notification was processed in accordance with the regulations of the FTZ Board (15 CFR part 400), including notice in the Federal Register inviting public comment (84 FR 50375, September 25, 2019). On January 7, 2020, the applicant was notified of the FTZ Board's decision that no further review of the activity is warranted at this time. The production activity described in the notification was authorized, subject to the FTZ Act and the FTZ Board's regulations, including Section 400.14.

Dated: January 7, 2020.
Andrew McGilvray,
Executive Secretary.

[FR Doc. 2020-00382 Filed 1-13-20; 8:45 am]

BILLING CODE 3510-DS-P